DEPARTMENT OF VETERANS AFFAIRS

[OMB Control No. 2900-0590]

Agency Information Collection Activity Under OMB Review: Department of Veterans Affairs Acquisition Regulation (VAAR), Indemnification and Medical Liability Insurance; Indemnification and Medical Liability Insurance; and Report of Employment Under Commercial Activities

AGENCY: Office of Acquisition and Logistics, Department of Veterans Affairs.

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Comments must be submitted on or before February 9, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0590” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0590” in any correspondence.

SUPPLEMENTARY INFORMATION:

Authority: 44 U.S.C. 3501-21.

Title: Department of Veterans Affairs Acquisition Regulation (VAAR) Clauses 852.237-7, Indemnification and Medical Liability Insurance; 852.228-71, Indemnification and Medical Liability Insurance; and 852.207-70, Report of Employment Under Commercial Activities.

OMB Control Number: 2900-0590.

Type of Review: Extension of a currently approved information collection.

Abstract: VAAR clause 852.237-7, Indemnification and Medical Liability Insurance, is used in lieu of Federal Acquisition Regulation (FAR) clause 52.237-7, Indemnification and Medical Liability Insurance, in solicitations and contracts for the acquisition of non-personal health care services. It requires the apparent successful bidder/offeror, upon the request of the contracting officer, prior to contract award, to furnish evidence of insurability of the offeror and/or all health-care providers who will perform under the contract. In addition, the clause requires the contractor, prior to commencement of services under the contract, to provide Certificates of Insurance or insurance policies evidencing that the firm possesses the types and amounts of insurance required by the solicitation. The information is required in order to protect VA by ensuring that the firm to which award may be made and the individuals who may provide health care services under the contract are insurable and that, following award, the contractor and its employees will continue to possess the types and amounts of insurance required by the solicitation. It helps ensure that VA will not be held liable for any negligent acts of the contractor or its employees and ensures that VA and VA beneficiaries will be protected by adequate insurance coverage.

VAAR clause 852.228-71, Indemnification and Insurance, is used in solicitations for vehicle or aircraft services. It requires the apparent successful bidder/offeror, prior to contract award, to furnish evidence that the firm possesses the types and amounts of insurance required by the solicitation. This evidence is in the form of a certificate from the firm's insurance company. The information is required to protect VA by ensuring that the firm to which award will be made possesses the types and amounts of insurance required by the solicitation. It helps ensure that VA will not be held liable for any negligent acts of the contractor and ensures that VA beneficiaries and the public are protected by adequate insurance coverage.

VAAR clause 852.207-70, Report of Employment Under Commercial Activities, is used in solicitations for commercial items and services where the work is currently being performed by VA employees and where those employees might be displaced as a result of an award to a commercial firm. The clause requires contractors awarded such contracts to provide, within 5 days of contract award, a list of employment openings, including salaries and benefits, and blank job application forms. The clause also requires the contractor, prior to the contract start date, to report: The names of adversely affected Federal employees offered employment openings; the date the offer was made; a description of the position; the date of acceptance and the effective date of employment; the date of rejection if an employee rejected an offer; the salary and benefits contained in any rejected offer; and the names of employees who applied for but were not offered employment and the reasons for withholding offers to those employees. In addition, the clause requires the contractor, during the first 90 days of contract performance, to report the names of all persons hired or terminated under the contract. The information will be used by the contracting officer to monitor and ensure compliance by the contractor with the requirements of FAR clause 52.207-3, Right of First Refusal of Employment. VA uses the information to determine whether additional contract terms and conditions are necessary to mitigate the conflict. An agency may not conduct or sponsor, and a person is not required to respond to a collection of information unless it displays a currently valid OMB control number.

An agency may not conduct or sponsor, and a person is not required to respond to a collection of information unless it displays a currently valid OMB control number. The Federal Register Notice with a 60-day comment period soliciting comments on this collection of information was published at 82 FR 44030 on September 20, 2017.

Affected Public: Business or other for-profit and not-for-profit institutions.

Estimated Annual Burden:

a. VAAR Clause 852.237-7, Indemnification and Medical Liability Insurance—750 hours.

b. VAAR clause 852.228-71, Indemnification and Insurance—250 hours.

c. VAAR clause 852.207-70, Report of Employment Under Commercial Activities—15 hours.

Estimated Average Burden per Respondent:

a. VAAR Clause 852.237-7, Indemnification and Medical Liability Insurance—30 minutes.

b. VAAR clause 852.228-71, Indemnification and Insurance—30 minutes.

c. VAAR clause 852.207-70, Report of Employment Under Commercial Activities—30 minutes per report.

Frequency of Response:

a. VAAR Clause 852.237-7, Indemnification and Medical Liability Insurance—1 per each contract awarded.

b. VAAR clause 852.228-71, Indemnification and Insurance—1 per each contract awarded.

c. VAAR clause 852.207-70, Report of Employment Under Commercial Activities—3 reports per contract awarded.

Estimated Number of Respondents:

a. VAAR Clause 852.237-7, Indemnification and Medical Liability Insurance—1500.

b. VAAR clause 852.228-71, Indemnification and Insurance—500.

c. VAAR clause 852.207-70, Report of Employment Under Commercial Activities—10.

By direction of the Secretary.
Cynthia Harvey-Pryor,
Department Clearance Officer, Office of Quality, Privacy and Risk, Department of Veterans Affairs.

[FR Doc. 2018-00234 Filed 1-9-18; 8:45 am]

BILLING CODE 8320-01-P